DEPARTMENT OF VETERANS AFFAIRS

[OMB Control No. 2900-0085]

Agency Information Collection Activity: Appeal to the Board of Veterans' Appeals

AGENCY: Board of Veterans' Appeals, Department of Veterans Affairs.

ACTION: Notice.

SUMMARY: The Board of Veterans' Appeals, Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before June 29, 2018.

ADDRESSES: Submit written comments on the collection of information through Federal Docket Management System (FDMS) at www.Regulations.gov or to Sue Hamlin, BVA, (01C2), Department of Veterans Affairs, 810 Vermont Avenue NW, Washington, DC 20420 or email to sue.hamlin@va.gov. Please refer to “OMB Control No. 2900-0085” in any correspondence. During the comment period, comments may be viewed online through FDMS.

FOR FURTHER INFORMATION CONTACT: Sue Hamlin at (202) 632-5100.

SUPPLEMENTARY INFORMATION: Under the PRA of 1995, Federal agencies must obtain approval from the Office of Management and Budget (OMB) for each collection of information they conduct or sponsor. This request for comment is being made pursuant to Section 3506 of the PRA.

With respect to the following collection of information, BVA invites comments on: (1) Whether the proposed collection of information is necessary for the proper performance of BVA's functions, including whether the information will have practical utility; (2) the accuracy of BVA's estimate of the burden of the proposed collection of information; (3) ways to enhance the quality, utility, and clarity of the information to be collected; and (4) ways to minimize the burden of the collection of information on respondents, including through the use of automated collection techniques or the use of other forms of information technology.

Authority: Public Law 115-55; 38 U.S.C. 5104B, 5108, 5701, 5901, 7103, 7104, 7105, 7107.

Title:

• Appeal to the Board of Veterans' Appeals, VA Form 9

• Services Withdrawal by Representative

• Requests for Change to Hearing Date

• Motions for Reconsideration

OMB Control Number: 2900-0085.

Type of Review: Extension of a currently approved collection.

Abstract: Appellate review of the denial of VA benefits may only be completed by filing a VA Form 9, “Appeal to Board of Veterans' Appeals.” 38 U.S.C. 7105(a) and (d)(3). Additionally, the proposed information collections allow for withdrawal of services by a representative, requests for changes in hearing dates and methods under 38 U.S.C. 7107, and motions for reconsideration pursuant to 38 U.S.C. 7103(a).

Affected Public: Individuals and households.

Estimated Annual Burden: 59,770 hours.

Estimated Average Burden per Respondent: 61.196 minutes.

Frequency of Response: Once.

Estimated Number of Respondents: 58,602.

By direction of the Secretary.
Cynthia D. Harvey-Pryor,
Department Clearance Officer, Office of Quality, Privacy and Risk, Department of Veterans Affairs.

[FR Doc. 2018-09051 Filed 4-27-18; 8:45 am]

BILLING CODE 8320-01-P